POSTAL SERVICE

39 CFR Part 111

Commercial Mail Receiving Agencies Clarification

AGENCY: Postal Service™.

ACTION: Final rule.

SUMMARY: The Postal Service is amending Mailing Standards of the United States Postal Service, Domestic Mail Manual (DMM®) to clarify Commercial Mail Receiving Agencies (CMRA) notary responsibilities for the addressee's signature.

DATES: Effective date: May 1, 2024.

FOR FURTHER INFORMATION CONTACT: Heidi Michel at (414) 239-2976, Clayton Gerber at (202) 449-8076, or Garry Rodriguez at (202) 268-7281.

SUPPLEMENTARY INFORMATION: On December 29, 2023, the Postal Service published a notice of proposed rulemaking (88 FR 90137-90138) to clarify CMRA notary responsibilities for the addressee's signature. In response to the proposed rule, the Postal Service received one response to the notice of proposed rulemaking which included comments on multiple topics. The commenter is a business that provides remote notarial services to the public. Comments and the Postal Service responses are summarized as follows.

Comment: The commenter stated allowing CMRA owner/managers to witness the execution of PS Form 1583 remotely via a real-time audio and video session provided insufficient fraud controls.

Response: CMRAs are authorized to operate upon application to the Postal Service. This is a longstanding requirement, as the Postal Service required CMRA owner/managers to sign PS Form 1583 as far back as 1967. In 1973, the Postal Service required the CMRA owner/manager to witness the execution of PS Form 1583. It was not until 1982 that the Postal Service allowed a notary public to witness the execution of PS Form 1583. The final rule continues the practice of allowing CMRA owner/managers to witness the execution of PS Form 1583 provided the applicant presents themself along with two acceptable forms of identification in accordance with Domestic Mail Manual (DMM) sections 608.10.3-.4. The final rule permitting CMRA owners/managers to witness the execution of PS Form 1583 via real-time audio and video is consistent with these longstanding in-person practices and does not diminish any fraud controls that are already in place.

Comment: The commenter agreed with the Postal Service that remote alternatives to physical presence are necessary in today's business environment.

Response: The Postal Service agrees with the commenter that remote alternatives are desirable, which is why the final rule allows applicants to sign or confirm their signature in the physical or virtual (in real-time audio and video) presence of the CMRA owner/manager.

Comment: The commenter proposed that, if a CMRA owner/manager signed a PS Form 1583 after a virtual session with the applicant, the CMRA follow a prescribed set of steps for the virtual session, including recording the virtual session and maintaining/storing that recording.

Response: The Postal Service has not prescribed the steps a CMRA must follow when witnessing the execution of PS Form 1583 during a virtual session, just like it has not prescribed the steps a CMRA must follow when witnessing the execution of PS Form 1583 in person. In addition, based on the Postal Service's experience, the burden and expense associated with the proposed additional recording and maintenance/storage requirements also must be balanced against need for such additional measures, and the Postal Service has not yet determined such a need exists. Consequently, the Postal Service declines to adopt the commenter's suggestion.

Comment: The commenter recognized the changes to the Rules related to Private Mail Box (PMB) applicant registration will help prevent fraud.

Response: The Postal Service shares this conclusion and expects that changes will reduce the incidence of fraud and criminal activity through PMBs at CMRAs.

Comment: The commenter suggested that by allowing the addressee to “acknowledge” his or her signature in the real or virtual presence of a CMRA owner/manager, the Postal Service may be unintentionally conferring notarial authority on the CMRA owner/manager.

Response: Notaries in the United States are appointed by state governments. The Postal Service has no authority to confer any notarial authority on any person, and we believe the use of the term “acknowledge” in relation to a CMRA owner/manager does not confer, and was not intended to confer, any such authority. Nevertheless, in the final rule, the language has been changed to address the commenter's concern that using the term “acknowledge” in relation to a CMRA owner/manager may be construed to confer notarial authority upon the CMRA owner/manager; accordingly the term “acknowledge” will be replaced with “confirm” in relation to a CMRA owner/manager: “[t]he addressee must sign or confirm his or her signature in the physical or virtual (in real-time audio and video) presence of the CMRA owner or manager or authorized employee. . . .”

The Postal Service is revising DMM subsection 508.1.8.3a3 to clarify that the notary public must be commissioned in a United States state, territory, possession, or the District of Columbia and to clarify the notary public's responsibilities with respect to the addressee's signature on PS Form 1583. This clarification is needed to establish that the notary public is domestically commissioned and to address particularities of some state notary public laws that do not authorize notaries public to attest a signature. The revision allows notaries public to recognize the PS Form 1583 applicant's acknowledged signature.

The revision also clarifies that the addressee must sign or confirm his or her signature on the PS Form 1583 in the physical or virtual (in real-time audio and video) presence of the CMRA owner, manager, or authorized employee, or acknowledge his or her signature on the PS Form 1583 in the physical or virtual (in real-time audio and video) presence of a notary public.

We believe this revision will provide CMRA owners/managers with a more efficient process for accepting the PS Form 1583 and establishing mail delivery for a private mailbox (PMB) customer of the CMRA.

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

500 Additional Mailing Services

* * * * *

508 Recipient Services

1.0 Recipient Options

* * * * *

1.8 Commercial Mail Receiving Agencies

* * * * *

1.8.3 Delivery to CMRA

Procedures for delivery to a CMRA are as follows:

a. The following applies:

* * * * *

[Revise the first sentence of item a3 to read as follows:]

The addressee must sign or confirm his or her signature in the physical or virtual (in real-time audio and video) presence of the CMRA owner or manager or authorized employee, or acknowledge his or her signature in the physical or virtual (in real-time audio and video) presence of a notary public commissioned in a United States state, territory, possession, or the District of Columbia. * * *

* * * * *

Colleen Hibbert-Kapler,
Attorney, Ethics and Legal Compliance.

[FR Doc. 2024-06989 Filed 5-1-24; 8:45 am]

BILLING CODE P